DEPARTMENT OF ENERGY

Federal Energy Regulatory Commission

[Project Nos. 400-043—Colorado and 12589-000—Colorado]

Public Service Company of Colorado Notice of Intent To File License Application, Filing of Pre-Application Document (Pad), Solicitation of Comments on the Pad and Scoping Document, Solicitation of Study Requests, and Commencement of Proceeding

July 21, 2005.

a. Type of Filing: Notice of Intent to File License Application for a New License and Pre-Application Document; Commencing Licensing Proceeding.

b. Project No.: 400-043 and 12589-000.

c. Dated Filed: May 20, 2005.

d. Submitted By: Public Service Company of Colorado.

e. Name of Project: Tacoma Hydroelectric Project No. 12589 and Ames Hydroelectric Project No. 400.

f. Location: The Tacoma Hydroelectric Project is located on Cascade Creek, Little Cascade Creek and Elbert Creek in La Plata and San Juan Counties, Colorado. The Tacoma Project occupies lands of the San Juan National Forest.

The Ames Hydroelectric Project is located on the Lake Fork and Howard Fork tributaries of the South Fork of the San Miguel River, in San Miguel County, Colorado. The Ames Project occupies lands of the Uncompahgre National Forest.

g. Filed Pursuant to: 18 CFR part 5 of the Commission's Regulations.

h. Potential Applicant Contact: Alfred Hughes; Supervisor, Hydro West; Xcel Energy; P.O. Box 8098, Durango, Colorado 81301; (970) 247-8363.

i. FERC Contact: David Turner (202) 502-6091 or via e-mail at david.turner@ferc.gov.

j. We are asking Federal, state, local, and tribal agencies with jurisdiction and/or special expertise with respect to environmental issues to cooperate with us in the preparation of the environmental document. Agencies who would like to request cooperating status should follow the instructions for filing comments described in paragraph p below.

k. With this notice, we are initiating informal consultation with: (a) The U.S. Fish and Wildlife Service under section 7 of the Endangered Species Act and the joint agency regulations thereunder at 50 CFR part 402 and (b) the State Historic Preservation Officer, as required by section 106, National Historical Preservation Act, and the implementing regulations of the Advisory Council on Historic Preservation at 36 CFR 800.2.

l. By this notice, we designate Public Service Company of Colorado as the Commission's non-federal representative for carrying out informal consultation, pursuant to section 7 of the Endangered Species Act and section 106 of the National Historic Preservation Act.

m. Public Service Company of Colorado filed a Pre-Application Document (Pad) for the Tacoma Project and one for the Ames Project, including a proposed process plan and schedule with the Commission, pursuant to 18 CFR 5.6 of the Commission's regulations. Public Service Company of Colorado is seeking a separate license for each development; both are currently licensed to Public Service Company of Colorado under the Tacoma-Ames Project No. 400.

n. We issued Scoping Document 1 and a notice of scoping and site visits on July 13, 2005. The scoping meetings for the Tacoma Project will be held August 9, 2005 from 7 p.m. to 9 p.m. and on August 10, 2005 from 9 a.m. to 3 p.m. at the Doubletree Hotel Durango, 501 Camino del Rio, Durango, Colorado. We will also hold a Tacoma Project site visit on August 9 starting at 12 p.m. from the Electra Lake Sporting Club parking lot. The scoping meeting for the Ames Project will held on August 11 from 7 p.m. to 9 p.m. and on August 12 from 9 a.m. to 3 p.m. at the Telluride Conference Center, 580 Mountain Boulevard, Telluride, Colorado. An Ames Project site visit will occur on August 12; meet at the Public Service Company of Colorado recreation facilities on Trout Lake at 8:30 a.m. Those interested in participating in the site visit must notify Alfred Hughes at (970) 247-8363 by August 1, 2005.

o. Copies of the Pads and Scoping Document 1 (SD1) are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

p. With this notice, we are soliciting comments on the Pads and SD1 as well as study requests. All comments on the Pad and SD1, and study requests should be sent to the address above in paragraph h. In addition, all comments on the Pads and SD1, study requests, requests for cooperating agency status, and all communications to Commission staff related to the merits of the potential application (original and eight copies) must be filed with the Commission at the following address: Magalie R. Salas, Secretary, Federal Energy Regulatory Commission, 888 First Street, NE., Washington, DC 20426. All filings with the Commission relevant to the Tacoma Hydroelectric Project must include on the first page, the project name, (Tacoma Hydroelectric Project) and number (P-12589-000), and bear the heading, as appropriate, “Comments on Pre-Application Document,” “Study Requests,” “Comments on Scoping Document 1,” “Request for Cooperating Agency Status,” or “Communications to and from Commission Staff.” All filings with the Commission relevant to the Ames Project must include on the first page, the project name (Ames Hydroelectric Project) and number (P-400-043) on the first page, and the appropriate heading as noted earlier. Any individual or entity interested in submitting study requests, commenting on the Pad or SD1, and any agency requesting cooperating status must do so by September 20, 2005.

All study requests must address the seven criteria, pursuant to 18 CFR 5.9(b) of the Commission's regulations.

Comments on the Pad and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

At this time, Commission staff intends to prepare a single Environmental Assessment for the project, in accordance with the National Environmental Policy Act.

Magalie R. Salas,
Secretary.

[FR Doc. E5-4033 Filed 7-28-05; 8:45 am]

BILLING CODE 6717-01-P